DEPARTMENT OF ENERGY

Federal Energy Regulatory Commission

Notice of Application To Amend Project Boundary and Soliciting Comments, Motions To Intervene, and Protests

January 14, 2005.

Take notice that the following application has been filed with the Commission and is available for public inspection:

a. Application Type: Amendment to remove project lands from the project boundary.

b. Project No: 349-094.

c. Date Filed: December 9, 2004.

d. Applicant: Alabama Power Company.

e. Name of Project: Martin Dam Hydroelectric Project.

f. Location: The project is located on the Tallapoosa River in Elmore, Coosa, and Tallapoosa Counties, Alabama. This project does not occupy any federal or tribal lands.

g. Filed Pursuant to: Federal Power Act, 16 U.S.C. 791(a), 825(r) and 799 and 801.

h. Applicant Contact: R. M. Akridge, General Manager—Hydro, Alabama Power Company, 600 North 18th Street, PO Box 2641, Birmingham, Alabama 35291-8180, 205-257-1000.

i. FERC Contact: Any questions on this notice should be addressed to Patricia W. Gillis at (202) 502-8735, or e-mail address: patricia.gillis@ferc.gov.

j. Deadline for filing comments and or motions: February 14, 2005.

All documents (original and eight copies) should be filed with: Ms. Magalie R. Salas, Secretary, Federal Energy Regulatory Commission, 888 First Street, NE., Washington DC 20426. Please include the project number (P-349-094) on any comments or motions filed. Comments, protests, and interventions may be filed electronically via the internet in lieu of paper. See, 18 CFR 385.2001(a)(1)(iii) and the instructions on the Commission's Web site under the “e-Filing” link. The Commission strongly encourages e-filings.

k. Description of Request: Alabama Power Company (Licensee) is seeking Commission authorization to remove from the project a narrow strip of land around Harbor Pointe Marina, an existing commercial marina, and adding to the project an undeveloped parcel in the same general area. The strip of project land proposed for removal from the project is designated for Commercial Recreation uses. The property proposed for addition to the project would be designated as natural undeveloped land. The Licensee believes the proposed change of the project boundary will enhance the environmental, scenic and aesthetic qualities of the Martin Dam Project.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. All documents (original and eight copies) should be filed with: Magalie R. Salas, Secretary, Federal Energy Regulatory Commission, 888 First Street, NE., Washington DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E5-291 Filed 1-25-05; 8:45 am]

BILLING CODE 6717-01-P